DEPARTMENT OF TRANSPORTATION

Federal Aviation Administration

Electronic Map Display Equipment for Graphical Depiction of Aircraft Position

AGENCY: Federal Aviation Administration, DOT.

ACTION: Notice of availability and requests for public comment.

SUMMARY: This notice announces the availability of and requests comments on a proposed Technical Standard Order (TSO)-C165, Electronic Map Display Equipment for Graphical Depiction of Aircraft Position. This proposed TSO tells persons seeking a TSO authorization or letter of design approval what minimum performance standards (MPS) their Electronic Map Displays must first meet in order to obtain approval and be identified with the applicable TSO marking.

DATES: Comments must identify the TSO file number and be received on or before August 5, 2003.

ADDRESSES: Send all comments on the proposed technical standard order to: Federal Aviation Administration (FAA), Aircraft Certification Service, Aircraft Engineering Division, Avionics Systems Branch, AIR-130, 800 Independence Avenue, SW., Washington, DC 20591. ATTN: Mr. Brad Miller. You may deliver comments to: Federal Aviation Administration, Room 815, 800 Independence Avenue, SW., Washington, DC 20591.

FOR FURTHER INFORMATION CONTACT: Mr. Brad Miller, Federal Aviation Administration (FAA), Aircraft Certification Service, Aircraft Engineering Division, Avionic Systems Branch, AIR-130, 800 Independence Avenue, SW., Washington, DC 20591. Telephone: (202) 385-4628, FAX: (202) 385-4651.

SUPPLEMENTARY INFORMATION:

Comments Invited

Interested persons are invited to comment on the proposed TSO listed in this notice by submitting such written data, views, or arguments as they desire to the above specified address. Comments received on the proposed TSO may be examined, before and after the comment closing date, in Room 815, FAA Headquarters Building, 800 Independence Avenue, SW., Washington, DC 20591, weekdays except Federal holidays, between 8:30 a.m. and 4:30 p.m. All communications received on or before the closing date for comments specified above will be considered by the Director of the Aircraft Certification Service before issuing the final TSO.

Background

The FAA has developed a new Technical Standard Order, TSO-C165, Electronic Map Display Equipment for Graphical Depiction of Aircraft Position. This proposed TSO prescribes the MPS for moving map equipment set forth in section 2 of RTCA Document No. (RTCA/DO)-257A, “Minimum Operational Performance Standards for the Depiction of Navigational Information on Electronic Maps,” dated June 25, 2003. The standards of this TSO apply to equipment intended to provide graphical depiction of navigation information on electronic moving map displays for use as an aid to other approved means of navigation. For portable devices, this TSO may be used in combination with Advisory Circular (AC) 120-76A, “Guidelines for the Certification, Airworthiness, and Operational Approval of Electronic Flight Bag Computing Devices,” to obtain a TSO authorization or letter of design approval for an Electronic Map Display for use on the airport surface.

How To Obtain Copies

You may get a copy of the proposed TSO from the internet at: http://www.faa.gov/certification/aircraft/TSOA.htm. You may request a copy from Mr. Brad Miller. See the section entitled FOR FURTHER INFORMATION CONTACT for the complete address.

Issued in Washington, DC, on June 26, 2003.
David W. Hempe,
Manager, Aircraft Engineering Division, Aircraft Certification Service.

[FR Doc. 03-16644 Filed 7-1-03; 8:45 am]

BILLING CODE 4910-13-M